SMALL BUSINESS ADMINISTRATION

[Disaster Declaration #17125 and #17126; Tennessee Disaster Number TN-00131]

Presidential Declaration of a Major Disaster for Public Assistance Only for the State of Tennessee

AGENCY: Small Business Administration.

ACTION: Notice.

SUMMARY: This is a Notice of the Presidential declaration of a major disaster for Public Assistance Only for the State of Tennessee (FEMA-4609-DR), dated 09/01/2021.

Incident: Severe Storm and Flooding.

Incident Period: 08/21/2021.

DATES: Issued on 09/01/2021.

Physical Loan Application Deadline Date: 11/01/2021.

Economic Injury (EIDL) Loan Application Deadline Date: 06/01/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 09/01/2021, Private Non-Profit organizations that provide essential services of a governmental nature may file disaster loan applications at the address listed above or other locally announced locations.

The following areas have been determined to be adversely affected by the disaster:

Primary Counties: Dickson, Hickman, Houston, Humphreys

The Interest Rates are:

| Percent
For Physical Damage:
Non-Profit Organizations with Credit Available Elsewhere | 2.000
Non-Profit Organizations without Credit Available Elsewhere | 2.000
For Economic Injury:
Non-Profit Organizations without Credit Available Elsewhere | 2.000

The number assigned to this disaster for physical damage is 17125 6 and for economic injury is 17126 0.

(Catalog of Federal Domestic Assistance Number 59008)

James Rivera,
Associate Administrator for Disaster Assistance.

[FR Doc. 2021-19656 Filed 9-10-21; 8:45 am]

BILLING CODE 8026-03-P